NATIONAL SCIENCE FOUNDATION

Advisory Committee for Education and Human Resources; Notice of Meeting

In accordance with Federal Advisory Committee Act (Pub. L. 92-463, as amended), the National Science Foundation announces the following meeting:

Name: Advisory Committee for Education and Human Resources (#1119).

Date/Time: November 7, 2007; 8:30 a.m. to 5 p.m., November 8, 2007; 8:30 a.m. to 12 p.m.

Place: National Science Foundation Headquarters, Conference Room 1235, 4201 Wilson Boulevard, Arlington, VA 22230.

Type of Meeting: Open.

Contact Person: James Colby, National Science Foundation, 4201 Wilson Boulevard, Arlington, VA 22230, (703) 292-5331.

If you are attending the meeting and need access to the NSF, please contact the individual listed above so your name may be added to the building access list.

Purpose of Meeting: To provide advice with respect to the Foundation's education and human resources programming.

Agenda

Wednesday, November 7, 2007

Assistant Director's Remarks

Issue Discussion: Broadening Participation to Improve Workforce. Development

Issue Discussion: Enriching the Education of STEM Teachers

Issue Discussion: Furthering Public Understanding of Science and Advancing STEM Literacy

Thursday, November 8, 2007

Issue Discussion: Promoting Learning Through Research and Evaluation

Issue Discussion: Promoting Cyber-Enabled Learning Strategies to Enhance STEM Education

Review and Acceptance of Committee of Visitor Reports

Future Issues for Consideration

Dated: September 26, 2007.
Susanne Bolton,
Committee Management Officer.

[FR Doc. E7-19356 Filed 10-1-07; 8:45 am]

BILLING CODE 7555-01-P